INTER-AMERICAN FOUNDATION

Sunshine Act Meetings

TIME AND DATE: November 4, 2019, 1:00 p.m.-5:00 p.m.

PLACE: Nelson Mullins Riley & Scarborough, 101 Constitution Ave. NW, #900, Washington, DC 20001.

STATUS: Meeting of the Board of Directors and Advisory Council, open to the public, portion closed to the public.

MATTERS TO BE CONSIDERED:

Approval of Past Meeting Minutes

Welcome and President's Report

50th Anniversary

Management Report

New Business

Adjournment

PORTION TO BE CLOSED TO THE PUBLIC:

Executive session closed to the public as provided for by 22 CFR 1004.4(b) & (f)

CONTACT PERSON FOR MORE INFORMATION: Nicole Stinson, Acting General Counsel, (202) 683-7117.

Nicole Stinson,
Acting General Counsel.

[FR Doc. 2019-23719 Filed 10-25-19; 4:15 pm]

BILLING CODE 7025-01-P